ENVIRONMENTAL PROTECTION AGENCY

40 CFR Part 52

[EPA-R02-OAR-2017-0101; FRL-9977-61—Region 2]

Approval and Promulgation of Implementation Plans; New Jersey; Motor Vehicle Enhanced Inspection and Maintenance Program

AGENCY: Environmental Protection Agency (EPA).

ACTION: Final rule.

SUMMARY: The Environmental Protection Agency (EPA) is approving a request from New Jersey to revise its State Implementation Plan (SIP) to incorporate revisions to the motor vehicle enhanced inspection and maintenance (I/M) program. New Jersey has made several amendments to its I/M program and has requested that the SIP be revised to include these changes. EPA is approving New Jersey's amendments to its I/M program to discontinue idle tests on model years 1995 and older light duty gasoline vehicles, idle tests on heavy-duty gasoline vehicles and gas cap leak testing. In addition, heavy-duty gasoline vehicles equipped with on-board diagnostics (OBD) will be subject to OBD testing with this revision. The intended effect of this action is to maintain consistency between the State-adopted rules and the federally approved SIP.

DATES: This rule is effective on June 8, 2018.

ADDRESSES: The EPA has established a docket for this action under Docket ID No. EPA-R02-OAR-2017-0101. All documents in the docket are listed on the www.regulations.gov website. Although listed in the index, some information is not publicly available, e.g., confidential business information or other information whose disclosure is restricted by statute. Certain other material, such as copyrighted material, is not placed on the internet and will be publicly available only in hard copy form. Publicly available docket materials are available through www.regulations.gov, or please contact the person identified in the For Further Information Contact section for additional availability information.

FOR FURTHER INFORMATION CONTACT: Reema Loutan, Air Programs Branch, U.S. Environmental Protection Agency, 290 Broadway, 25th Floor, New York, New York 10007, at (212) 637-3760, or by email at loutan.reema@epa.gov.

SUPPLEMENTARY INFORMATION:

I. What action is the EPA taking today?

II. What was submitted by the NJDEP and how did the EPA respond?

III. What comments were received in response to the EPA's proposed action?

IV. What is the EPA's conclusion?

V. Incorporation by Reference

VI. Statutory and Executive Order Reviews

I. What action is the EPA taking today?

The EPA is approving a request from New Jersey to revise its SIP to incorporate revisions to the enhanced inspection and maintenance (I/M) program.

II. What was submitted by the NJDEP and how did the EPA respond?

On September 16, 2016, New Jersey submitted to the EPA revisions to the New Jersey SIP pertaining to New Jersey's motor vehicle enhanced I/M program. On October 6, 2017 (82 FR 46742), the EPA published a notice of proposed rulemaking to approve the revisions to the SIP for New Jersey's I/M program. The revisions submitted by New Jersey include:

• Discontinuing the two-speed idle tests on model year 1981-1995 light duty gasoline vehicles, idle tests on pre-1981 model year light duty gasoline vehicles, and idle tests on heavy-duty gasoline vehicles;

• Discontinuing the smoke opacity test for diesel-powered vehicles equipped with an on-board diagnostic (OBD) system;

• Discontinuing the rolling acceleration smoke opacity test and the power brake smoke opacity test for heavy-duty diesel motor vehicles;

• Replacing the fuel cap leak test or gas cap test for gasoline-fueled vehicles with a visual gas cap check to ensure the gas cap is present;

• Requiring an OBD test for every vehicle subject to inspection that is required by the EPA to be equipped with an OBD system;

• Requiring inspections for commercial vehicles;

• Requiring that re-inspections of all vehicles be performed at New Jersey's decentralized I/M facilities;

• Adding procedures for the diesel exhaust after-treatment checks; and

• Authorizing inspectors of both gasoline and diesel vehicles to fail a vehicle if it is determined that there has been tampering with the vehicle's emission controls.

The EPA's rationale for the proposed approval of the SIP revision was presented in the October 6, 2017 proposal, referenced above, and will not be restated here.

III. What comments were received in response to the EPA's proposed action?

The proposed action provided a 30-day public comment period. During this period, two comments were received. One comment discussed greenhouse gas concerns and is not relevant to the content of the I/M SIP revision submitted by New Jersey. The second comment and EPA's response is discussed below.

Comment #2: An anonymous commenter asked “Why would we not test and control idling emissions? What is to be gained by not ensuring that this doesn't allow harmful toxins and particulate matter into the air? Do you want your child on line for the school bus that is idling and spewing?”

Response: Under this SIP revision, New Jersey's revised SIP will expand inspection test requirements to all vehicles with OBD systems that are covered by New Jersey I/M testing program. Light duty gasoline vehicles from model year 1996 and later, and heavy-duty engines and vehicles between 8,500 and 14,000 pounds gross vehicle weight rating from 2008 and later are all required by EPA regulations to have OBD systems.

The OBD system processes readings from sensors in the engine and along the exhaust system to monitor and record indicators of engine performance, performance of the fuel delivery system, and functioning of the emission control system. The OBD system thus monitors for nearly all potential emission control component malfunctions that may cause excess vehicle emissions, and an OBD inspection test provides technicians with timely and accurate emissions data and flags malfunctions early, which helps vehicle owners better maintain their vehicles. Thus, OBD inspection tests play a key role in helping states meet national air quality standards, and offers significant benefits to state and local agencies working to improve air quality through vehicle inspection and maintenance programs.

New Jersey's SIP revision does eliminate tailpipe idle tests for model year 1995 and earlier light duty vehicles and all heavy-duty gasoline vehicles. However, the number of vehicles that will no longer require idle testing and that also do not have OBD systems is a small proportion of vehicles in New Jersey, and is reducing in volume each year. In 2006, pre-1996 model year vehicles subject to inspection under the existing rules represented 30% of initial inspections, whereas those vehicles represented only 3% of initial inspections in 2016.

The commenter also expressed concern regarding school buses. All school buses in New Jersey undergo an annual emissions test, either an OBD test for gasoline vehicles or smoke opacity for the larger diesel vehicles. Finally, New Jersey's motor vehicle idling laws regarding driving behavior remain in effect and are unaffected by this rulemaking.

IV. What is the EPA's conclusion?

The EPA is approving New Jersey's revised I/M program discussed in the Notice of Proposed Rulemaking titled “Approval and Promulgation of Implementation Plans; New Jersey; Motor Vehicle Enhanced Inspection and Maintenance Program” (82 FR 46742). The EPA is approving New Jersey's request to eliminate exhaust emission tests or tailpipe testing for all gasoline-powered motor vehicles and require OBD testing for all vehicles, including heavy-duty gasoline vehicles, that are subject to inspection and required by the EPA to be equipped with an OBD system. The EPA is also approving New Jersey's revised procedures for diesel exhaust after-treatment checks, standards for fuel leak checks, and implementation of a visual gas cap check to ensure that the gas cap is present on gasoline-powered vehicles (as a replacement for the fuel cap leak test). For heavy-duty diesel-powered vehicles, the EPA is approving New Jersey's repeal of the rolling acceleration smoke opacity test and the power brake smoke opacity test. The State demonstrated that neither the elimination of the tailpipe tests nor the other amendments made under this SIP revision will result in an adverse impact to air quality. Please refer to the October 6, 2017 proposed rulemaking (82 FR 46742) for further details on all approved measures. The EPA's authority to approve New Jersey's enhanced I/M program is set forth at sections 110 and 182 of the Clean Air Act.

V. Incorporation by Reference

In this rule, the EPA is finalizing regulatory text that includes incorporation by reference. In accordance with requirements of 1 CFR 51.5, the EPA is finalizing the incorporation by reference of revisions to portions of Title 7, Chapter 27: Subchapters 14 and 15; Chapter 27A: Subchapter 3; Chapter 27B: Subchapters 4 and 5; and Title 13, Chapter 20: Subchapter 7, Subchapter 26, Subchapter 32, Subchapter 33, Subchapter 43 and Subchapter 44 of the New Jersey Administrative Code that implement New Jersey's Enhanced I/M Program, as described in section II of this preamble.

The EPA has made, and will continue to make, these materials generally available through www.regulations.gov and at the EPA Region 2 Office (please contact the person identified in the For Further Information Contact section of this preamble for more information). These materials have been approved by the EPA for inclusion in the State implementation plan, have been incorporated by reference by the EPA into that plan, are fully federally enforceable under sections 110 and 113 of the CAA as of the effective date of the final rulemaking of the EPA's approval, and will be incorporated by reference by the Director of the Federal Register in the next update to the SIP compilation.¹

¹ 62 FR 27968 (May 22, 1997).

VI. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by July 9, 2018. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Incorporation by reference, Nitrogen dioxide, Intergovernmental relations, Lead, Ozone, Particulate matter, Reporting and recordkeeping requirements, Sulfur oxides, Volatile organic compounds.

Authority: 42 U.S.C. 7401 et seq.

Dated: April 19, 2018.
Peter D. Lopez,
Regional Administrator, Region 2.

Part 52 chapter I, title 40 of the Code of Federal Regulations is amended as follows:

PART 52—APPROVAL AND PROMULGATION OF IMPLEMENTATION PLANS

1. The authority citation for part 52 continues to read as follows:

Authority: 42 U.S.C. 7401 et seq.

Subpart FF—New Jersey

2. In § 52.1570, the table in paragraph (c) is amended by:

a. Removing the entry “Title 7, Chapter 27, Subchapter 14, Sections 14.2(old)”.

b. Revising the entries “Title 7, Chapter 27, Subchapter 14, Section 14.1”, “Title 7, Chapter 27, Subchapter 14, Section 14.2”, and “Title 7, Chapter 27, Subchapter 14, Section 14.3”.

c. Adding the entries “Title 7, Chapter 27, Subchapter 14, Section 14.4”, “Title 7, Chapter 27, Subchapter 14, Section 14.5”, “Title 7, Chapter 27, Subchapter 14, Section 14.6”, “Title 7, Chapter 27, Subchapter 14, Section 14.7”, “Title 7, Chapter 27, Subchapter 14, Section 14.10”, and “Title 7, Chapter 27, Subchapter 14, Appendix” in numerical order.

d. Revising the entry “Title 7, Chapter 27, Subchapter 15”.

e. Adding the entry “Title 7, Chapter 27A, Subchapter 3, Section 3.10” after the entry “Title 7, Chapter 27, Subchapter 34”.

f. Adding entries “Title 7, Chapter 27B, Subchapter 4, Section 4.1”, “Title 7, Chapter 27B, Subchapter 4, Section 4.2”, “Title 7, Chapter 27B, Subchapter 4, Section 4.3”, “Title 7, Chapter 27B, Subchapter 4, Section 4.6”, “Title 7, Chapter 27B, Subchapter 4, Section 4.7”, and “Title 7, Chapter 27B, Subchapter 4, Section 4.8” in numerical order after the entry “Title 7, Chapter 27B, Subchapter 3”.

g. Revising the entry “Title 7, Chapter 27B, Subchapter 5”.

h. Removing the entry “Title 13, Chapter 20, Subchapter 7, Sections: 7.1, 7.2, 7.3, 7.4, 7.5, and 7.6”.

i. Adding the entries “Title 13, Chapter 20, Subchapter 7.1”, “Title 13, Chapter 20, Subchapter 7.2”, “Title 13, Chapter 20, Subchapter 7.3”, “Title 13, Chapter 20, Subchapter 7.4”, “Title 13, Chapter 20, Subchapter 7.5”, and “Title 13, Chapter 20, Subchapter 7.6” in numerical order after the entry “Title 7, Chapter 27B, Subchapter 5”.

j. Removing the entry “Title 13, Chapter 20, Subchapter 26, Sections 26.2 and 26.16”.

k. Adding the entries “Title 13, Chapter 20, Subchapter 26, Section 26.2”, “Title 13, Chapter 20, Subchapter 26, Section 26.11”, “Title 13, Chapter 20, Subchapter 26, Section 26.12”, “Title 13, Chapter 20, Subchapter 26, Section 26.16”, and “Title 13, Chapter 20, Subchapter 26, Section 26.17” in numerical order after the entry “Title 13, Chapter 20, Subchapter 24, Section 20”.

l. Revising the entries “Title 13, Chapter 20, Subchapter 32”, “Title 13, Chapter 20, Subchapter 33”, “Title 13, Chapter 20, Subchapter 43”, and “Title 13, Chapter 20, Subchapter 44”.

The revisions and additions read as follows:

§ 52.1570 Identification of plan.

* * * * *

(c) * * *

EPA-Approved New Jersey State Regulations
State citation | Title/subject | State effective date | EPA approval date | Comments
* * * * * * *
Title 7, Chapter 27, Subchapter 14, Section 14.1 | Control and Prohibition of Air Pollution from Diesel-Powered Motor Vehicles/Definitions | October 3, 2016 | May 9, 2018, EPA approval finalized at [insert Federal Register citation] |
Title 7, Chapter 27, Subchapter 14, Section 14.2 | Control and Prohibition of Air Pollution from Diesel-Powered Motor Vehicles/Applicability | October 3, 2016 | May 9, 2018, EPA approval finalized at [insert Federal Register citation] |
Title 7, Chapter 27, Subchapter 14, Section 14.3 | Control and Prohibition of Air Pollution from Diesel-Powered Motor Vehicles/General prohibitions | October 3, 2016 | May 9, 2018, EPA approval finalized at [insert Federal Register citation] |
Title 7, Chapter 27, Subchapter 14, Section 14.4 | Control and Prohibition of Air Pollution from Diesel-Powered Motor Vehicles/General public highway standards | October 3, 2016 | May 9, 2018, EPA approval finalized at [insert Federal Register citation] |
Title 7, Chapter 27, Subchapter 14, Section 14.5 | Control and Prohibition of Air Pollution from Diesel-Powered Motor Vehicles/Motor vehicle inspections | October 3, 2016 | May 9, 2018, EPA approval finalized at [insert Federal Register citation] |
Title 7, Chapter 27, Subchapter 14, Section 14.6 | Control and Prohibition of Air Pollution from Diesel-Powered Motor Vehicles/Motor vehicle standards | October 3, 2016 | May 9, 2018, EPA approval finalized at [insert Federal Register citation] |
Title 7, Chapter 27, Subchapter 14, Section 14.7 | Control and Prohibition of Air Pollution from Diesel-Powered Motor Vehicles/Licensed emissions inspectors | October 3, 2016 | May 9, 2018, EPA approval finalized at [insert Federal Register citation] |
Title 7, Chapter 27, Subchapter 14, Section 14.10 | Control and Prohibition of Air Pollution from Diesel-Powered Motor Vehicles/Penalties | October 3, 2016 | May 9, 2018, EPA approval finalized at [insert Federal Register citation] |
Title 7, Chapter 27, Subchapter 14, Appendix | Control and Prohibition of Air Pollution from Diesel-Powered Motor Vehicles/Appendix | October 3, 2016 | May 9, 2018, EPA approval finalized at [insert Federal Register citation] |
Title 7, Chapter 27, Subchapter 15 | Control and Prohibition of Air Pollution from Gasoline-Fueled Motor Vehicles/Definition | October 3, 2016 | May 9, 2018, EPA approval finalized at [insert Federal Register citation] |
* * * * * * *
Title 7, Chapter 27A, Subchapter 3, Section 3.10 | Civil Administrative Penalties and Requests for Adjudicatory Hearings | October 3, 2016 | May 9, 2018, EPA approval finalized at [insert Federal Register citation] |
* * * * * * *
Title 7, Chapter 27B, Subchapter 4, Section 4.1 | Air Test Method 4: Testing Procedures for Diesel-Powered Motor Vehicles | October 3, 2016 | May 9, 2018, EPA approval finalized at [insert Federal Register citation] |
Title 7, Chapter 27B, Subchapter 4, Section 4.2 | Air Test Method 4: Testing Procedures for Diesel-Powered Motor Vehicles | October 3, 2016 | May 9, 2018, EPA approval finalized at [insert Federal Register citation] |
Title 7, Chapter 27B, Subchapter 4, Section 4.3 | Air Test Method 4: Testing Procedures for Diesel-Powered Motor Vehicles | October 3, 2016 | May 9, 2018, EPA approval finalized at [insert Federal Register citation] |
Title 7, Chapter 27B, Subchapter 4, Section 4.6 | Air Test Method 4: Testing Procedures for Diesel-Powered Motor Vehicles | October 3, 2016 | May 9, 2018, EPA approval finalized at [insert Federal Register citation] |
Title 7, Chapter 27B, Subchapter 4, Section 4.7 | Air Test Method 4: Testing Procedures for Diesel-Powered Motor Vehicles | October 3, 2016 | May 9, 2018, EPA approval finalized at [insert Federal Register citation] |
Title 7, Chapter 27B, Subchapter 4, Section 4.8 | Air Test Method 4: Testing Procedures for Diesel-Powered Motor Vehicles | October 3, 2016 | May 9, 2018, EPA approval finalized at [insert Federal Register citation] |
Title 7, Chapter 27B, Subchapter 5 | Air Test Method 5: Testing Procedures for Gasoline-Fueled Motor Vehicles | October 3, 2016 | May 9, 2018, EPA approval finalized at [insert Federal Register citation] |
Title 13, Chapter 20, Subchapter 7.1 | Vehicle Inspections | April 26, 2016 | May 9, 2018, EPA approval finalized at [insert Federal Register citation] |
Title 13, Chapter 20, Subchapter 7.2 | Vehicle Inspections | April 26, 2016 | May 9, 2018, EPA approval finalized at [insert Federal Register citation] |
Title 13, Chapter 20, Subchapter 7.3 | Vehicle Inspections | April 26, 2016 | May 9, 2018, EPA approval finalized at [insert Federal Register citation] |
Title 13, Chapter 20, Subchapter 7.4 | Vehicle Inspections | April 26, 2016 | May 9, 2018, EPA approval finalized at [insert Federal Register citation] |
Title 13, Chapter 20, Subchapter 7.5 | Vehicle Inspections | April 26, 2016 | May 9, 2018, EPA approval finalized at [insert Federal Register citation] |
Title 13, Chapter 20, Subchapter 7.6 | Vehicle Inspections | April 26, 2016 | May 9, 2018, EPA approval finalized at [insert Federal Register citation] |
* * * * * * *
Title 13, Chapter 20, Subchapter 26, Section 26.2 | Compliance with Diesel Emission Standards and Equipment, Periodic Inspection Program for Diesel Emissions, and Self-Inspection of Certain Classes of Motor Vehicles | April 26, 2016 | May 9, 2018, EPA approval finalized at [insert Federal Register citation] |
Title 13, Chapter 20, Subchapter 26, Section 26.11 | Compliance with Diesel Emission Standards and Equipment, Periodic Inspection Program for Diesel Emissions, and Self-Inspection of Certain Classes of Motor Vehicles | April 26, 2016 | May 9, 2018, EPA approval finalized at [insert Federal Register citation] |
Title 13, Chapter 20, Subchapter 26, Section 26.12 | Compliance with Diesel Emission Standards and Equipment, Periodic Inspection Program for Diesel Emissions, and Self-Inspection of Certain Classes of Motor Vehicles | April 26, 2016 | May 9, 2018, EPA approval finalized at [insert Federal Register citation] |
Title 13, Chapter 20, Subchapter 26, Section 26.16 | Compliance with Diesel Emission Standards and Equipment, Periodic Inspection Program for Diesel Emissions, and Self-Inspection of Certain Classes of Motor Vehicles | April 26, 2016 | May 9, 2018, EPA approval finalized at [insert Federal Register citation] |
Title 13, Chapter 20, Subchapter 26, Section 26.17 | Compliance with Diesel Emission Standards and Equipment, Periodic Inspection Program for Diesel Emissions, and Self-Inspection of Certain Classes of Motor Vehicles | April 26, 2016 | May 9, 2018, EPA approval finalized at [insert Federal Register citation] |
* * * * * * *
Title 13, Chapter 20, Subchapter 32 | Inspection Standards and Test Procedures to be Used by Official Inspection Facilities | April 26, 2016 | May 9, 2018, EPA approval finalized at [insert Federal Register citation] |
Title 13, Chapter 20, Subchapter 33 | Inspection Standards and Test Procedures to be Used by Licensed Private Inspection Facilities | April 26, 2016 | May 9, 2018, EPA approval finalized at [insert Federal Register citation] |
Title 13, Chapter 20, Subchapter 43 | Enhanced Motor Vehicle Inspection and Maintenance Program | April 26, 2016 | May 9, 2018, EPA approval finalized at [insert Federal Register citation] |
Title 13, Chapter 20, Subchapter 44 | Private Inspection Facility Licensing | April 26, 2016 | May 9, 2018, EPA approval finalized at [insert Federal Register citation] |
* * * * * * *

* * * * *

[FR Doc. 2018-09788 Filed 5-8-18; 8:45 am]

BILLING CODE 6560-50-P